DEPARTMENT OF DEFENSE

Department of the Navy

Notice of Public Meetings of the Draft Environmental Impact Statement/Overseas Environmental Impact Statement for Hawaii-Southern California Training and Testing

AGENCY: Department of the Navy, DoD.

ACTION: Notice.

SUMMARY: The Department of the Navy (DoN) has prepared and filed with the U.S. Environmental Protection Agency a Draft Environmental Impact Statement/Overseas Environmental Impact Statement (EIS/OEIS). It is the role of DoN to maintain, train and equip combat ready naval forces capable of winning wars, deterring aggression, and maintaining freedom of the seas. To fulfil its role, the DoN will continue ongoing military readiness activities, which include training and research, development, testing, and evaluation activities (hereafter referred to as “training and testing”) conducted within the Hawaii-Southern California Training and Testing (HSTT) EIS/OEIS Study Area (hereafter referred to as the “Study Area”). In the Draft EIS/OEIS, the DoN re-evaluates potential environmental impacts associated with training and testing in the study area. The National Marine Fisheries Service (NMFS) is a cooperating agency for this EIS/OEIS. This notice announces the dates and locations of the public meetings and provides supplementary information about the environmental planning effort.

DATES and ADDRESSES: Public meetings will include an open-house information session, followed by a short presentation by the DoN and public oral comment session. DoN representatives will be available during the open-house information sessions to clarify information related to the Draft EIS/OEIS. Federal, state, and local agencies and officials, and interested organizations and individuals are encouraged to provide substantive comments on the Draft EIS/OEIS in writing during the public review period or in person at one of the scheduled public meetings.

Public meetings will be held in Hawaii from 4:00 to 8:00 p.m. and in San Diego from 5:00 to 8:00 p.m. A DoN presentation and public oral comment session will occur twice during the meetings. Public meetings will be held on the following dates and at the following locations:

1. Monday, November 6, 2017, at Oahu Veterans Center, Fred Ballard Hall, 1298 Kukila St., Honolulu, HI 96818.

2. Tuesday, November 7, 2017, at Maui High School, Cafeteria, 660 S. Lono Ave., Kahului, HI 96732.

3. Wednesday, November 8, 2017, at Kauai Veterans Center, Main Ballroom, 3215 Kapule Highway, Lihue, HI 96766.

4. Thursday, November 9, 2017, at Waiakea High School, Cafeteria, 155 W. Kawili St., Hilo, HI 96720.

5. Monday, November 13, 2017, at Portuguese Hall, Main Hall, 2818 Avenida de Portugal, San Diego, CA 92106.

Attendees will be able to submit oral and written comments during the public meetings. Oral comments from the public will be recorded by a court reporter and each speaker's comments will be limited to three (3) minutes. Equal weight will be given to oral and written statements. Comments may also be mailed to Naval Facilities Engineering Command Pacific, Attention: HSTT EIS/OEIS Project Manager, 258 Makalapa Drive, Suite 100, Pearl Harbor, HI 96860-3134, or electronically via the project Web site (www.HSTTEIS.com). All comments, oral or written, submitted during the 60-day public comment period will become part of the public record and substantive comments will be addressed in the Final EIS/OEIS. Comments must be postmarked or received online by December 12, 2017, for consideration in the Final EIS/OEIS.

Concurrent with the NEPA public involvement process, the DoN is conducting National Historic Preservation Act section 106 consultations regarding potential effects of the Proposed Action on historic properties. Historic properties include districts, sites, buildings, structures, or objects listed or eligible for listing in the National Register of Historic Places. During each of the meetings, an information station will be available, where subject matter experts will explain the section 106 process and solicit public input.

FOR FURTHER INFORMATION CONTACT: Naval Facilities Engineering Command Pacific, Attention: HSTT EIS/OEIS Project Manager, 258 Makalapa Drive, Suite 100, Pearl Harbor, HI 96860-3134.

SUPPLEMENTARY INFORMATION: A Notice of Intent to prepare this Draft EIS/OEIS was published in the Federal Register on November 12, 2015 (80 FR 59952).

The Proposed Action is to conduct DoN training and testing activities within the Study Area. These activities include the use of active sonar and explosives while employing marine species protective mitigation measures. The purpose of the Proposed Action is to maintain a ready force, which is needed to ensure the DoN can accomplish its mission to maintain, train, and equip combat-ready naval forces capable of winning wars, deterring aggression, and maintaining freedom of the seas, consistent with Congressional direction in Section 5062 of Title 10 of the U.S. Code (U.S.C.).

To achieve and maintain military readiness, the DoN proposes to: (1) Conduct training and testing activities at levels required to support DoN military readiness requirements beginning in 2018; and (2) Accommodate evolving mission requirements, including those resulting from the development, testing, and introduction of vessels, aircraft, and weapons systems into the fleet.

Proposed training and testing activities are similar to those that have occurred in the Study Area for decades. The tempo and types of training and testing activities fluctuate because of the introduction of new technologies, the evolving nature of international events, advances in warfighting doctrine and procedures, and changes in force structure (organization of ships, weapons, and personnel). These factors can influence the frequency, duration, intensity, and location of training and testing activities. This EIS/OEIS reflects the most up-to-date compilation of training and testing activities deemed necessary to accomplish military readiness requirements. The types and numbers of activities included in the Proposed Action account for fluctuations in training and testing to meet evolving or emergent military readiness requirements.

In the Draft EIS/OEIS, the DoN evaluates the potential environmental impacts of three alternatives, including a No Action Alternative. Under the No Action Alternative, the DoN would not conduct the proposed training and testing activities in the Study Area, and no authorizations or permits would be issued from NMFS. Under Alternative 1 (the DoN's preferred alternative), the DoN proposes to conduct military readiness training and testing activities, as needed to meet current and future readiness requirements, including new activities and activities subject to previous analysis that are ongoing and have historically occurred in the Study Area. Alternative 1 reflects a representative annual level of training and testing to account for the natural fluctuation of training cycles and deployment schedules that generally limit the maximum level of training from occurring year after year in any five-year period. Using a representative annual level of activity rather than a maximum level of training activity in every year has reduced the amount of active sonar estimated to be necessary to meet training requirements. Under Alternative 1, the DoN assumes that some unit-level training would be conducted using synthetic means (e.g., simulators). Alternative 2 includes new and ongoing training and testing activities to enable the DoN to meet the highest levels of required military readiness. Alternative 2 reflects the maximum number of training and testing activities that could occur within a given year, and assumes that the maximum level of activity would occur every year over any five-year period. Alternative 2 would allow for the greatest flexibility for the DoN to maintain readiness when considering potential changes in the national security environment, fluctuations in schedules, and anticipated demands.

Additional project information, including details on the key differences between the 2013 Final EIS/OEIS and the 2017 Draft EIS/OEIS, can be found on the project Web site at www.HSTTEIS.com.

Minimizing impacts on the marine environment from training and testing activities is an important goal for the DoN. The DoN will implement mitigation and monitoring measures to avoid or reduce environmental impacts from naval activities. Due to the exposure of marine mammals to underwater sound from sonar and explosives, NMFS has received an application from the DoN for a Marine Mammal Protection Act Letter of Authorization and governing regulations to authorize the unintentional takes of marine mammals incidental to the activities conducted in the Study Area. In accordance with section 7 of the Endangered Species Act, the DoN will consult with NMFS and the U.S. Fish and Wildlife Service, as appropriate, on the potential impacts of training and testing activities on federally listed species. In accordance with the Magnuson-Stevens Fishery Conservation and Management Act, the DoN will consult with NMFS on federally managed species and their managed essential fish habitat, as appropriate. As applicable, the DoN will comply with the Coastal Zone Management Act, National Historic Preservation Act, and the National Marine Sanctuaries Act.

The Draft EIS/OEIS was distributed to federal and local agencies in which the DoN consulted with. Copies of the Draft EIS/OEIS are available for public review at the following local public libraries:

1. Hawaii State Library, 478 S. King St., Honolulu, HI 96813.

2. Hilo Public Library, 300 Waianuenue Ave., Hilo, HI 96720.

3. Kahului Public Library, 90 School St., Kahului, HI 96732.

4. Kailua-Kona Public Library, 75-138 Hualalai Road, Kailua-Kona, HI 96740.

5. Lihue Public Library, 4344 Hardy St., Lihue, HI 96766.

6. City of San Diego Central Library, 330 Park Blvd., San Diego, CA 92101.

7. Coronado Public Library, 640 Orange Ave., Coronado, CA 92118.

8. Long Beach Main Library, 101 Pacific Ave., Long Beach, CA 90822.

The HSTT Draft EIS/OEIS is available for electronic viewing or download at www.HSTTEIS.com. A compact disc of the Draft EIS/OEIS will be made available upon written request by contacting: Naval Facilities Engineering Command Pacific, Attention: HSTT EIS/OEIS Project Manager, 258 Makalapa Drive, Suite 100, Pearl Harbor, HI 96860-3134.

Authority: 42 U.S.C. 4332, EO 12114, and 40 CFR 1500-1508.

Dated: October 10, 2017.
A.M. Nichols,
Lieutenant Commander, Judge Advocate General's Corps, U.S. Navy, Federal Register Liaison Officer.

[FR Doc. 2017-22195 Filed 10-12-17; 8:45 am]

BILLING CODE 3810-FF-P